DEPARTMENT OF COMMERCE

International Trade Administration

[A-580-807]

Polyethylene Terephthalate Film from South Korea; Extension of Time Limit for Final Results of Sunset Review of Antidumping Duty Order

AGENCY: Import Administration, International Trade Administration, U.S. Department of Commerce.

EFFECTIVE DATE: May 26, 2005.

FOR FURTHER INFORMATION CONTACT: Martha Douthit at 202-482-5050, Hilary Sadler at 202-482-4340, Zev Primor at 202-482-4114, or Dana Mermelstein at 202-482-1391. Import Administration, International Trade Administration, U.S. Department of Commerce, 14th Street & Constitution Avenue, NW, Washington, DC 20230.

Extension of Time Limit for Final Results of Review

The Department of Commerce (“the Department”) is extending the time limit for the final results of the sunset review of the antidumping duty order on polyethylene terephthalate (PET) film from South Korea (Korea). In accordance with section 751(c)(5)(B) of the Tariff Act of 1930, as amended (“the Act”), the Department may extend the period of time for making its determination by not more than 90 days, if it determines that the review is extraordinarily complicated. As set forth in 751(c)(5)(C)(v) of the Act, the Department may treat a sunset review as extraordinarily complicated if it is a review of a transition order. A transition order is defined as any antidumping or countervailing duty order which was in effect on January 1, 1995, the date on which the WTO Agreement entered into force with respect to the United States. See section 751(c)(6)(C) of the Act. The antidumping duty order subject to this sunset review was issued prior to January 1, 1995, and as such, is a transition order. Therefore, the Department has determined, pursuant to section 751(c)(5)(C)(v) of the Act, that the sunset review of the antidumping duty order on PET film from Korea is extraordinarily complicated and requires additional time for the Department to complete its analysis. The Department's final results of this sunset review were scheduled for June 2, 2005. The Department will extend the deadline in this proceeding and, as a result, intends to issue the final results of the sunset review of the antidumping duty order on PET film from Korea on August 31, 2005, which is 90 days from the original deadline.

This notice is issued in accordance with sections 751(c)(5)(B) and (C)(v) of the Act.

Dated: May 19, 2005.
Barbara E. Tillman,
Acting Deputy Assistant Secretary for Import Administration.

[FR Doc. E5-2682 Filed 5-25-05; 8:45 am]

BILLING CODE: 3510-DS-S